DEPARTMENT OF COMMERCE

International Trade Administration

[C-533-825]

Polyethylene Terephthalate Film, Sheet, and Strip from India: Final Results of Countervailing Duty Administrative Review

AGENCY: Import Administration, International Trade Administration, Department of Commerce.

SUMMARY: On July 31, 2009, the Department of Commerce (Department) issued the preliminary results of administrative review of the countervailing duty order on polyethylene terephthalate film, sheet, and strip (PET film) from India for the period January 1, 2007 through December 31, 2007. See Polyethylene Terephthalate Film, Sheet, and Strip from India: Preliminary Results of Countervailing Duty Administrative Review, 74 FR 39631 (August 7, 2009) (Preliminary Results). Based on the results of our analysis of the comments received, the Department has made certain revisions to the subsidy rates for the respondent, Jindal Poly Films Limited of India (Jindal), formerly named Jindal Polyester Limited (Jindal). The final subsidy rate for the reviewed company is listed below in the section entitled “Final Results of Review.”

EFFECTIVE DATE: February 10, 2010.

FOR FURTHER INFORMATION CONTACT: Elfi Blum, AD/CVD Operations, Office 6, Import Administration, International Trade Administration, U.S. Department of Commerce, 14th Street and Constitution Avenue, NW, Washington, DC 20230; telephone: (202) 482-0197.

SUPPLEMENTARY INFORMATION:

Background

Since the issuance of the Preliminary Results, the following events have occurred. The Department issued its third supplemental questionnaire to the Government of India (GOI) and to Jindal on August 6, 2009. The GOI and Jindal filed their responses on September 3, 2009, and on September 2, 2009, respectively. The Department set an initial briefing schedule on September 3, 2003, and revised it on September 8, 2009. Jindal filed a case brief on December 22, 2009, and the petitioners, Dupont Teijin Films, Mitsubishi Polyester Film of America, and Toray Plastics (America), Inc., filed a rebuttal brief on January 4, 2010.

The Department issued its Post-Preliminary Determination on Invalidated Licenses under the Advance License Program (ALP) on December 23, 2009. See Memorandum To Ronald K. Lorentzen, Deputy Assistant Secretary for Import Administration, from Barbara E. Tillman, Director, AD/CVD Operations, Office 6: Polyethylene Terephthalate Film, Sheet and Strip (PET film) from India: 2007 Administrative Review of the Countervailing duty Order; Post-Preliminary Determination (December 23, 2009) (Post-Preliminary Determination Memorandum). Although the Department invited interested parties to comment, no comments were filed on the Post-Preliminary Determination Memorandum.

Scope of the Order

For purposes of the order, the products covered are all gauges of raw, pretreated, or primed Polyethylene Terephthalate Film, Sheet and Strip, whether extruded or coextruded. Excluded are metallized films and other finished films that have had at least one of their surfaces modified by the application of a performance-enhancing resinous or inorganic layer of more than 0.00001 inches thick. Imports of PET film are classifiable in the Harmonized Tariff Schedule of the United States (HTSUS) under item number 3920.62.00.90. HTSUS subheadings are provided for convenience and customs purposes. The written description of the scope of the order is dispositive.

Analysis of Comments Received

All issues raised in the case brief and rebuttal brief by parties to this administrative review are addressed in the Issues and Decision Memorandum in the Final Results of the Countervailing Duty Administrative Review of Polyethylene Terephthalate Film, Sheet, and Strip (PET Film) from India, from John M. Anderson, Acting Deputy Assistant Secretary to Ronald K. Lorentzen, Deputy Assistant Secretary for Import Administration (February 3, 2010) (Issues and Decision Memorandum), which is hereby adopted by this notice. The Issues and Decision Memorandum also contains a complete analysis of the programs covered by this review, the methodologies used to calculate the subsidy rates, and discusses any changes to the subsidy rates. A list of the comments raised in the briefs and addressed in the Issues and Decision Memorandum is appended to this notice. The Issues and Decision Memorandum is on file in the Central Records Unit, Room 1117 of the main Department building, and can be accessed directly on the Web at http://ia.ita.doc.gov/frn.

Changes Since the Preliminary Results

Based on our analysis of comments received, we have revised the calculations with respect to the benefit amount calculated with respect to on certain Export Promotion Capital Goods Scheme (EPCGS) licenses that the GOI issued prior to 2005. Specifically, we deducted the relevant application fees (as an offset) from the unpaid duty amounts that we use in our benefit calculations. For those EPCGS licenses treated as contingent liability loans, we will deducted the relevant application fees from the “principal” (i.e., unpaid duties). For those EPCGS licenses for which the GOI has formally waived the duties, we will deduct the relevant application fees from the amount of unpaid duties that is allocated. All changes are discussed in detail in the Issues and Decision Memorandum.

Final Results of Review

In accordance with section 751(a)(1)(A) of the Tariff Act of 1930, as amended (Act) and 19 CFR 351.221(b)(5), we calculated individual ad valorem subsidy rates for Jindal, the only producer/exporter subject to review for the calendar year 2007, the period of review for this administrative review.

Manufacturer/Exporter | Net Subsidy Rate
Jindal Poly Films Limited of India. | 7.17 %

Assessment and Cash Deposit Instructions

The Department intends to issue assessment instructions to U.S. Customs and Border Protection (CBP) 15 days after the date of publication of these final results of review to liquidate shipments of subject merchandise by Jindal entered, or withdrawn from warehouse, for consumption on or after January 1, 2007 through December 31, 2007. We will also instruct CBP to collect cash deposits of estimated countervailing duties, at the above rate, on shipments of the subject merchandise by Jindal entered, or withdrawn from warehouse, for consumption on or after the date of publication of these final results of review. The cash deposit rates for all companies not covered by this review are not changed by the results of this review.

Return or Destruction of Proprietary Information

This notice serves as a reminder to parties subject to the administrative protective order (APO) of their responsibility concerning the disposition of proprietary information disclosed under the APO in accordance with 19 CFR 351.305(a)(3). Timely written notification of return or destruction of APO materials or conversion to judicial protective order is hereby requested. Failure to comply with the regulations and the terms of an APO is a sanctionable violation.

We are issuing and publishing these results in accordance with sections 751(a)(1) and 777(i)(1) of the Act.

Dated: February 3, 2010.
Ronald K. Lorentzen,
Deputy Assistant Secretary for Import Administration.

APPENDIX I

LIST OF ISSUES ADDRESSED IN THE ISSUES AND DECISION MEMORANDUM

Benefit Calculation For the Export Promotion Capital Goods Scheme (EPCGS)

Comment 1: Allocation of Benefit for License Number P/J/3092819

Comment 2: EPCGS Benefits on Capital Goods Used for Non-Subject Merchandise

Comment 3: Deduction of Certain Application Fees Paid on EPCGS Licenses

Value Added Tax (VAT)

Comment 4: Benefits Through Refunds of the VAT

Advanced License Program (ALP)

Comment 5: Countervailability of the ALP under the GOI's New Monitoring Procedures

[FR Doc. 2010-2986 Filed 2-9-10; 8:45 am]

BILLING CODE 3510-DS-S